DEPARTMENT OF THE INTERIOR

Bureau of Land Management

Emergency Closure

AGENCY: Department of the Interior, Bureau of Land Management.

ACTION: Notice of Closure of Public Lands; Utah. Notice of a emergency closure to motorized vehicles and mountain bikes on a crucial “lek” (strutting and breeding ground) and adjacent habitat area for the greater sage grouse. This area is located west and north of Parowan Gap in Iron County, Utah.

SUMMARY: This notice closes to motorized vehicle and mountain bike use approximately 1,735 acres of public land administered by BLM land located in all or parts of sections 3, 4, 8, 9, 10, 17, 20, 21; T. 33 S., R.10 W; SLBM. All public lands including motorized vehicle routes within the area will be closed, except access to a wildlife guzzler located adjacent to the west boundary road in Section 8 will be allowed. The authority for this action is 43 CFR 8341.2.

DATES: This closure is seasonal from March 1st to May 15th each year will begin immediately and remain in effect pending amendment of the land use plan for the Cedar City Field Office area.

FOR FURTHER INFORMATION CONTACT: Steve Hedges, Bureau of Land Management, 176 East DL Sargent Drive, Cedar City, Utah 84720, telephone (435) 865-3035.

SUPPLEMENTARY INFORMATION: The subject area is important year long sage grouse habitat and contains a crucial lek or strutting ground, which is considered to be the center of spring breeding activity for resident sage grouse populations. This lek (strutting and breeding ground) has been monitored annually since 1974 by the Utah Division of Wildlife Resources (UDWR) and is one of the few remaining active leks in Iron County. The greater sage grouse is listed by Utah BLM and UDWR as a state sensitive species. BLM policy for sensitive species as stated in the 6840 Manual is that they should be managed to ensure that actions funded, authorized, or carried out by the BLM do not contribute to the need to list them as threatened or endangered species. UDWR classifies the sage grouse as a species of special concern with declining populations and limited distributions. As such, it is crucial to protect the lek sites of this species. The area is currently designated as open to OHV use as documented in the Off Road Vehicle Designation and Implementation Plan for Beaver River Resource Area completed in 1987. The OHV plan also prescribes that BLM monitor ongoing OHV activity and, if necessary, adjust the time, location, or quantity of use. The subject area has received considerable increase in OHV use, extending existing routes, and creating new routes. This activity is having an adverse impact on the sage grouse in that the breeding activities are being disrupted by vehicles driving through the lek during the time which the birds are on the lek. Therefore, BLM is temporarily closing to all vehicle use the area as described above.

Dated: April 9, 2001.
A.J. Meredith,
Field Office Manager.

[FR Doc. 01-10460 Filed 4-26-01; 8:45 am]

BILLING CODE 4310-$$-M